DEPARTMENT OF HEALTH AND HUMAN SERVICES

Office of the Secretary

Office of the Assistant Secretary for Planning and Evaluation; Request for Comments on the Departmental FY 2007-2012 Strategic Plan

AGENCY: Office of the Secretary, Health and Human Services.

ACTION: Request for comments on the Draft Strategic Plan FY 2007-2012.

SUMMARY: The Department of Health and Human Services (HHS) is seeking public comment on its draft Strategic Plan for fiscal years 2007-2012.

DATES: Submit comments on or before June 15.

ADDRESSES: Written comments can be provided by e-mail, fax or U.S. mail.

E-mail: HHSStrategicPlan@hhs.gov.

Fax: (202) 690-8252.

Mail: U.S. Department of Health and Human Services, Office of the Assistant Secretary for Planning and Evaluation, Office of Planning and Policy Support, Attn: Strategic Plan Comments, 200 Independence Avenue, SW., Room 408B, Washington, DC 20201.

FOR FURTHER INFORMATION CONTACT: Audrey Mirsky-Ashby, (202) 401-6640.

SUPPLEMENTARY INFORMATION: The Department of Health and Human Services Draft FY 2007-2012 Strategic Plan is provided as part of the strategic planning process under the Government Performance and Results Act (GPRA) to ensure that Agency stakeholders are given an opportunity to comment on this plan.

This document integrates the Department's mission into a presentation of performance goals under four strategic goals. These four strategic goals are (1) Health Care: Improve the safety, quality, affordability and accessibility of health care, including behavioral health care and long-term care; (2) Public Health Promotion and Protection, Disease Prevention and Emergency Preparedness: Prevent and control disease, injury, illness and disability across the lifespan, and protect the public from infectious, occupational, environmental and terrorist threats; (3) Human Services: Promote the economic and social well-being of individuals, families and communities, and (4) Scientific Research and Development: Advance scientific and biomedical research and development related to health and human services. The strategic planning process is an opportunity for the Department to further refine and strengthen the strategic goal structure currently in place. For comparison purposes, the current HHS Strategic Plan FY 2004-2009 can be viewed at http://aspe.hhs.gov/hhsplan/.

The Department has made significant progress in its strategic and performance planning efforts. As we build on this progress we look forward to receiving your comments by June 15. The text of the draft strategic plan is available in a “pdf” downloadable format through the Department of Health and Human Services Web site: http://www.hhs.gov.

For those who may not have Internet access, a hard copy can be requested from the contact point, Audrey Mirsky-Ashby, 202-401-6640.

Dated: May 16, 2007.
Jerry Regier,
Principal Deputy/Assistant Secretary for Planning and Evaluation.

[FR Doc. E7-10076 Filed 5-23-07; 8:45 am]

BILLING CODE 4151-05-P